DEPARTMENT OF COMMERCE

National Oceanic and Atmospheric Administration

50 CFR Part 660

[Docket No. 200928-0257]

RIN 0648-BJ74

Magnuson-Stevens Act Provisions; Fisheries Off West Coast States; Pacific Coast Groundfish Fishery; Pacific Coast Groundfish Fishery Management Plan; Amendment 29; 2021-22 Biennial Specifications and Management Measures

AGENCY: National Marine Fisheries Service (NMFS), National Oceanic and Atmospheric Administration (NOAA), Commerce.

ACTION: Proposed rule; request for comments.

SUMMARY: This proposed rule would establish the 2021-22 harvest specifications for groundfish taken in the U.S. exclusive economic zone off the coasts of Washington, Oregon, and California, consistent with the Magnuson-Stevens Fishery Conservation and Management Act and the Pacific Coast Groundfish Fishery Management Plan (PCGFMP). This proposed rule would also revise the management measures that are intended to keep the total annual catch of each groundfish stock or stock complex within the annual catch limits. These proposed measures are intended to help prevent overfishing, rebuild overfished stocks, achieve optimum yield, and ensure that management measures are based on the best scientific information available. Additionally, this proposed rule announces the receipt of exempted fishing permit applications. NMFS has made a preliminary determination that these applications warrant further consideration. NMFS requests public comment on these applications. This action also would implement Amendment 29 to the PCGFMP, which would designate shortbelly rockfish as an ecosystem component species, and would make changes to the trawl/non-trawl allocations for blackgill rockfish within the southern slope complex south of 40°10′ North latitude (N lat.), petrale sole, lingcod south of 40°10′ N lat., and widow rockfish.

DATES: Comments must be received no later than November 2, 2020.

ADDRESSES: Submit your comments, identified by NOAA-NMFS-2020-0098, by either of the following methods:

• Federal e-Rulemaking Portal: Go to www.regulations.gov/#!docketDetail;D=NOAA-NMFS-2020-0098, click the “Comment Now!” icon, complete the required fields, and enter or attach your comments. The exempted fishing permit (EFP) applications will be available under Supporting Documents through the same link.

• Mail: Submit written comments to Barry Thom, Regional Administrator, West Coast Region, NMFS, 7600 Sand Point Way NE, Seattle, WA 98115-0070.

Instructions: NMFS may not consider comments if they are sent by any other method, to any other address or individual, or received after the comment period ends. All comments received are a part of the public record and NMFS will post for public viewing on www.regulations.gov without change. All personal identifying information (e.g., name, address, etc.), confidential business information, or otherwise sensitive information submitted voluntarily by the sender is publicly accessible. NMFS will accept anonymous comments (enter “N/A” in the required fields if you wish to remain anonymous).

Electronic Access

This rule is accessible via the internet at the Office of the Federal Register website at https://www.federalregister.gov/. Background information and documents including an integrated analysis for this action (Analysis), which addresses the statutory requirements of the Magnuson Stevens Fishery Conservation and Management Act (Magnuson-Stevens Act), the National Environmental Policy Act, Presidential Executive Order 12866, and the Regulatory Flexibility Act are available at the NMFS West Coast Region website at http://www.westcoast.fisheries.noaa.gov/fisheries/groundfish/index.html and at the Pacific Fishery Management Council's website at http://www.pcouncil.org. The final 2020 Stock Assessment and Fishery Evaluation (SAFE) report for Pacific Coast groundfish, as well as the SAFE reports for previous years, are available from the Pacific Fishery Management Council's website at http://www.pcouncil.org.

FOR FURTHER INFORMATION CONTACT: Karen Palmigiano, phone: 206-526-4491 or email: karen.palmigiano@noaa.gov.

SUPPLEMENTARY INFORMATION:

I. Background

Chapter 5 of the Pacific Coast Groundfish Fishery Management Plan (PCGFMP) requires the Pacific Fishery Management Council (Council) to assess the biological, social, and economic conditions of the Pacific coast groundfish fishery and use this information to develop harvest specifications and management measures at least biennially. This proposed rule is based on the Council's final recommendations for harvest specifications and management measures for the 2021-22 biennium made at its April and June 2020 meetings.

The Council deemed the proposed regulations necessary and appropriate to implement these actions in an August, 26, 2020, letter from Council Executive Director, Chuck Tracy, to Regional Administrator Barry Thom. Under the Magnuson-Stevens Fishery Conservation and Management Act (Magnuson-Stevens Act), NMFS is required to publish proposed rules for comment after preliminarily determining whether they are consistent with applicable law. We are seeking comment on the proposed regulations in this action and whether they are consistent with the PCGFMP, the Magnuson-Stevens Act and its National Standards, and other applicable law.

Concurrent with this proposed rule, NMFS also published a Notice of Availability (NOA) to announce the proposed Amendment 29 to the PCGFMP. The NOA requests public review and comment on proposed changes to the Council fishery management plan document (85 FR 54529; September 2, 2020).

A. Specification and Management Measure Development Process

The Northwest Fisheries Science Center (NWFSC) conducted full stock assessments in 2019 for 7 of the 128 stocks ¹ currently included under the PCGFMP as stocks that require conservation and management (cabezon, big skate, longnose skate, sablefish, cowcod, gopher rockfish, and black-and-yellow rockfish). Additionally, the NWFSC reviewed assessment updates for Petrale sole and widow rockfish, as well as catch-only assessment updates for a number of previously assessed stocks (black rockfish, blackgill rockfish, California blue/deacon rockfish north of Point Conception, canary rockfish, China rockfish, darkblotched rockfish, Dover sole, lingcod, longspine thornyheads, rougheye and blackspotted rockfishes, and shortspine thornyhead). The NWFSC did not update assessments for the remaining stocks, so harvest specifications for these stocks are based on assessments from previous years. The full stock assessments used to set catch limits for this biennium are available on the Council website (https://www.pcouncil.org/).

¹ Stocks for which annual catch limits (ACLs) or ACL contributions to stock complex ACLs are calculated. Assessments do not include stocks designated as ecosystem component species.

The Council's stock assessment review panel (STAR panel) reviewed the stock assessments, including assessments on stocks for which some biological indicators are available, as described below, for technical merit, and to determine that each stock assessment document was sufficiently complete. Finally, the Council's Scientific and Statistical Committee (SSC) reviewed the stock assessments and STAR panel reports and made its recommendations to the Council (Agenda Item H.5, September 2019 Council Meeting).

The Council considered the new stock assessments, stock assessment updates, catch-only updates, public comment, recommendations from the SSC, and advice from its advisory bodies over the course of six Council meetings during development of its recommendations for the 2021-22 harvest specifications and management measures. At each Council meeting between June 2019 and June 2020, the Council made a series of decisions and recommendations that were, in some cases, refined after further analysis and discussion. Table 2 in the Analysis describes the Council's meeting schedule for developing the 2021-22 biennial harvest specifications. Additionally, detailed information, including the supporting documentation the Council considered at each meeting, is available at the Council's website, www.pcouncil.org.

The 2021-22 biennial management cycle was the third cycle following PCGFMP Amendment 24 (80 FR 12567, March 10, 2015), which established default harvest control rules and was analyzed through an Environmental Impact Statement (EIS) (Final Environmental Impact Statement for Pacific Coast Groundfish Harvest Specifications and Management Measures for 2015-2016 and Biennial Periods Thereafter, and Amendment 24 to the PCGFMP, published January 2015). The EIS described the ongoing implementation of the PCGFMP and default harvest control rules, along with 10-year projections for harvest specifications and a range of management measures. Under Amendment 24, the default harvest control rules used to determine the previous biennium's harvest specifications (i.e., overfishing limits [OFLs], acceptable biological catches (ABCs), and annual catch limits [ACLs]) are applied automatically to the best scientific information available to determine the future biennium's harvest specifications. NMFS implements harvest specifications based on the default harvest control rules used in the previous biennium unless the Council makes a recommendation to deviate from the default. Therefore, this rule implements the default harvest control rules, consistent with the last biennium (2019-20), for most stocks, and discusses Council-recommended departures from the defaults. The Analysis supporting this action identifies the preferred harvest control rules, management measures, and other management changes that were not described in the 2015 EIS, and will be posted on the NMFS West Coast Region web page (see Electronic Access).

Information regarding the OFLs, ABCs, and ACLs proposed for groundfish stocks and stock complexes in 2021-22 is presented below, followed by a discussion of the proposed management measures for commercial and recreational groundfish fisheries.

II. Proposed Harvest Specifications

This proposed rule would set 2021-22 harvest specifications and management measures for 127 of the 128 groundfish stocks which currently have ACLs or ACL contributions to stock complexes managed under the PCGFMP, except for Pacific whiting. Pacific whiting harvest specifications are established annually through a separate bilateral process with Canada. Shortbelly rockfish, which is currently managed with harvest specifications, would no longer be managed with harvest specifications beginning in the 2021-22 biennium and would instead be classified as an ecosystem component species. The change to shortbelly management is made through Amendment 29 to the PCGFMP and is discussed in detail in the NOA for that amendment. Public comment is open on the NOA (see ADDRESSES).

The proposed OFLs, ABCs, and ACLs are based on the best available biological and socioeconomic data, including projected biomass trends, information on assumed distribution of stock biomass, and revised technical methods used to calculate stock biomass. The PCGFMP specifies a series of three stock categories for the purpose of setting maximum sustainable yield (MSY) ², OFLs, ABCs, ACLs, and rebuilding standards. Category one represents the highest level of information quality available, while category three represents the lowest. Category one stocks are the relatively few stocks for which the NWFSC can conduct a “data rich” quantitative stock assessment that incorporates catch-at-age, catch-at-length, or other data. The SSC can generally calculate OFLs and overfished/rebuilding thresholds for these stocks, as well as ABCs, based on the uncertainty of the biomass estimated within an assessment or the variance in biomass estimates between assessments for all stocks in this category. The set of category two stocks includes a large number of stocks for which some biological indicators are available, yet status is based on a “data-moderate” quantitative stock assessment. The category three stocks include minor stocks which are caught, but for which there is, at best, only information on landed biomass. For stocks in this category, there is limited data available for the SSC to quantitatively determine MSY, OFL, or an overfished threshold. Typically, catch-based methods (e.g., depletion-based stock reduction analysis, depletion corrected average catch, and average catches) are used to determine the OFL for category three stocks. A detailed description of each of these categories can be found in Section 4.2 of the PCGFMP.

² MSY is the largest long-term average catch that can be taken from a fish stock under prevailing environmental and fishery conditions.

A. Proposed OFLs for 2021 and 2022

The OFL serves as the maximum amount of fish that can be caught in a year without resulting in overfishing. Overfishing occurs when a stock has a harvest rate, denoted as Fx%, is set higher than the rate that produces the stock's MSY. The SSC derives OFLs for groundfish stocks with stock assessments by applying the harvest rate to the current estimated biomass (B). Harvest rates represent the rates of fishing mortality (F) that will reduce the female spawning potential ratio (SPR) to X percent of its unfished level. As an example, a harvest rate of F40% is more aggressive than F45% or F50% harvest rates because F40% allows more fishing mortality on a stock (as it allows a harvest rate that would reduce the stock to 40 percent of its unfished level). The OFL does not account for scientific or management uncertainty, so the SSC typically recommends an ABC that is lower than the OFL in order to account for this uncertainty. Usually, the greater the amount of scientific uncertainty, the lower the ABC is set compared to the OFL.

For 2021-22, the Council maintained its policy of using a default harvest rate as a proxy for the fishing mortality rate that is expected to achieve FMSY. The Council also maintained the same default harvest rate proxies as used in the 2019-20 biennium, based on the SSC's recommendations: F30% for flatfish (meaning an SRP harvest rate that would reduce the stock to 30 percent of its unfished level), F50% for rockfish (including longspine and shortspine thornyheads), F50% for elasmobranchs, and F45%for other groundfish such as sablefish and lingcod. For unassessed stocks, the Council recommended using a historical catch-based approach (e.g., average catch, depletion-corrected average catch, or depletion-based stock reduction analysis) to set the OFL. See Tables 1a and 2a to Part 660, Subpart C in the proposed regulatory text supporting this rule for the proposed 2021-22 OFLs.

A detailed description of the scientific basis for all of the SSC-recommended OFLs proposed in this rule is included in the SAFE document for 2020, available at the Council's website, www.pcouncil.org.

B. Proposed ABCs for 2021 and 2022

The ABC is the stock or stock complex's OFL reduced by an amount associated with scientific uncertainty. The SSC-recommended P star-sigma approach determines the amount by which the OFL is reduced to account for this uncertainty. Under this approach, the SSC recommends a sigma (σ) value. The σ value is generally based on the scientific uncertainty in the biomass estimates generated from stock assessments and is usually related to the stock category. After the SSC determines the appropriate σ value, the Council chooses a P star (P*) based on its chosen level of risk aversion considering the scientific uncertainties. A P* of 0.5 equates to no additional reduction for scientific uncertainty beyond the σ value reduction. The PCGFMP specifies that the upper limit of P* will be 0.45. The P*-sigma approach is discussed in detail in the proposed and final rules for the 2011-12 (75 FR 67810, November 3, 2010; 76 FR 27508, May 11, 2011) and 2013-14 (77 FR 67974, November 12, 2012; 78 FR 580, January 3, 2013) biennial harvest specifications and management measures.

The SSC recently endorsed new σ values that increase the scientific uncertainty estimate and reduce the proposed ABCs and ACLs relative to what they could have been under the σ and P* values used in the previous biennium. The new σ values, endorsed by the Council at its March 2019 meeting, include a new base reduction for Category 1 stocks of 0.5 and an increase in the buffer between the OFL and ABC as the age of the assessment increases. Currently, σ is the same for each year regardless of the age of the assessment. Table 1 provides the σ values used in previous biennium and the new σ values with a higher base year deduction and progressively increasing σ values with the age of the assessment.

Based on the new methodology, the SSC quantified major sources of scientific uncertainty in the estimates of OFLs and generally recommended a σ value of 0.5 for category one stocks (previously 0.36), a σ value of 1.0 for category two stocks (previously 0.72), and a σ value of 2.0 for category three stocks (previously 1.44). For category two and three stocks, there is greater scientific uncertainty in the OFL estimate because the assessments for these stocks are informed by less data than the assessments for category one stocks. Therefore, the scientific uncertainty buffer is generally greater than that recommended for stocks with data-rich stock assessments. Assuming the same P* is applied, a larger σ value results in a larger reduction from the OFL. For 2021-22, the Council continued the general policy of using the SSC-recommended σ values for each stock category.

For 2021-22, the Council maintained the P* policies it established for the previous biennium for most stocks, except Oregon black rockfish, cowcod south of 40°10′ N lat., sablefish, and shortbelly rockfish. The Council considered alternative P* values for Petrale sole but ultimately decided to stay with the default P* value used in the previous biennium. As was done in 2015-16, 2017-18, and 2019-20, the Council recommended using P* values of 0.45 for all individually managed category one stocks, except sablefish and yelloweye rockfish. Combining the category one σ value of 0.5 with the P* value of 0.45 results in a reduction of 6.1 percent from the OFL when deriving the ABC. For category two stocks, the Council's general policy was to apply a P* of 0.4, with a few exceptions. The Council recommended applying a P* of 0.45 for big skate, cowcod south of 34°27′ N lat., English sole, longnose skate, Pacific ocean perch, and all of the stocks managed in the Oregon blue/deacon/black rockfish complex, Nearshore Rockfish complexes, and the Other Fish complex. When combined with the σ values of 1.00 for category two, a P* value of 0.45 corresponds to an 11.8 percent reduction and a P* value of 0.40 corresponds to a 22.4 percent reduction. For category three stocks, the Council's general policy was to apply a P* value of 0.45 for these stocks, except the Council recommended a P* value of 0.40 for cowcod between 40°10′ N lat. and 34°27′ N lat., Pacific cod, starry flounder, and all stocks in the Other Flatfish complex. When combined with the σ values of 2.00 for category three, a P* value of 0.45 corresponds to 22.2 percent reduction and a P* value of 0.40 corresponds to a 39.8 percent reduction. See Tables 1-3 in Agenda Item H.8, Supplemental Attachment 2, September 2019 Council meeting for the full description of σ and P* values by stock. See Tables 1a and 2a to Part 660, Subpart C in the in the proposed regulatory text of this proposed rule for the proposed 2021-22 ABCs.

C. Proposed ACLs for 2019 and 2020

The Council recommends ACLs for each stock and stock complex that is in need of conservation and management or “in the fishery,” as defined in the PCGFMP. To determine the ACL for each stock, the Council will determine the best estimate of current stock abundance and its relation to the precautionary and overfished/rebuilding thresholds. Under the PCGFMP, the biomass level that produces MSY, or BMSY, is defined as the precautionary threshold. When the biomass for an assessed category one or two stock falls below BMSY, the ACL is set below the ABC using a harvest rate reduction to help the stock return to the BMSY level, which is the management target for groundfish stocks. If a stock biomass is larger than BMSY, the ACL may be set equal to the ABC, or the ACL may be set below the ABC to address conservation objectives, socioeconomic concerns, management uncertainty, or other factors necessary to meet management objectives. The overfished/rebuilding threshold is 25 percent of the estimated unfished biomass level for non-flatfish stocks or 50 percent of BMSY, if known. The overfishing/rebuilding threshold for flatfish stocks is 12.5 percent of the estimated unfished biomass level. When a stock is below BMSY (the precautionary threshold) but above the overfishing/rebuilding threshold, it is considered to be in the precautionary zone.

Under PCGFMP Amendment 24, the Council set up default harvest control rules, which established default policies that would be applied to the best available scientific information to set ACLs each biennial cycle, unless the Council has reasons to diverge from that harvest control rule. A complete description of the default harvest control rules for setting ACLs is described in the proposed and final rule for the 2015-16 harvest specifications and management measures and PCGFMP Amendment 24 (80 FR 687, January 6, 2015; 80 FR 12567, March 10, 2015).

The PCGFMP defines the 40-10 harvest control rule for stocks with a BMSY proxy of B40% that are in the precautionary zone as the standard reduction. The analogous harvest control rule with the standard reduction for assessed flatfish stocks is the 25-5 harvest control rule for flatfish stocks with a BMSY proxy of B25%. The further the stock biomass is below the precautionary threshold, the greater the reduction in ACL relative to the ABC, until at B10% for a stock with a BMSY proxy of B40%, or B5% for a stock with a BMSY proxy of B25%, the ACL would be set at zero.

Under the PCGFMP, the Council may recommend setting the ACL at a different level than what the default harvest control rules specify as long as the ACL does not exceed the ABC and complies with the requirements of the Magnuson-Stevens Act (see Chapter 8 of the analysis for information on the Magnuson-Stevens Act and other applicable laws). For most of the stocks and all the stock complexes managed with harvest specifications for 2021-22, the Council chose to maintain the default harvest control rules from the previous biennial cycle. For four stocks, Oregon Black rockfish, cowcod south of 40°10′ N lat., sablefish, and shortbelly rockfish, the Council recommended deviating from the default harvest control rule. Table 2 presents a summary table of the proposed changes to default harvest control rules for certain stocks for 2021-22. Each of these changes is discussed further below.

Cowcod South of 40°10′ N Lat.

A new cowcod assessment conducted by the NWFSC in 2019 indicated the stock south of 40°10′ N lat. had transitioned from a rebuilding stock to a stock with current depletion estimate at the start of 2019 of 57 percent of unfished spawning output (Agenda Item H.5. Attachment 9, September 2019), which is far above the precautionary threshold of 50 percent. When a stock is determined to be rebuilt, its harvest control rule automatically reverts back to the default harvest control rule for the next biennium. For the 2021-22 biennium, cowcod south of 40°10′ N lat. was the only stock declared rebuilt.

Consistent with the Council's preferred alternative, this action proposes that the cowcod south of 40°10′ N lat. ACL would be set equal to the ABC with a P* of 0.4, resulting in ACLs of 84 mt in 2021 and 82 mt in 2022. The Council recommended a lower P* value for cowcod south of 40°10′ N lat. than what would have been applied under the default P* value (P* = 0.45) to address the relatively high uncertainty in the estimated biomass and productivity in the cowcod assessment due to a lack of adequate data (particularly age data) for estimating growth, natural mortality, and recruitment. The revised P* value of 0.40 is consistent with other category two stocks. See Section 2.2.2.2 of the Analysis for more information on the Council's consideration of alternative harvest specifications for cowcod south of 40°10′ N lat.

The resulting ACLs would increase by more than eight times the amount in place in 2019 (10 mt). As an additional precaution due to the uncertainty in the assessment, the Council also recommended, and NMFS is proposing, an ACT of 50 mt for cowcod south of 40°10′ N lat. The ACT is a management measure and is discussed further in Section III of this preamble.

Oregon Black Rockfish

Oregon black rockfish is a category two stock, managed as part of the Oregon blue/deacon/black rockfish complex. Oregon black rockfish was first assessed as a single stock in 2015. In 2019, the Oregon black rockfish stock was estimated to be at 56 percent of its unfished spawning output. For 2021-22, the NWFSC conducted a catch-only update to the 2015 assessment by adding realized catch data from 2015-2018 and estimates of catch for 2019 and 2020. In Oregon, realized catches were closer to projected catches in 2015-2017, but lower in 2018 resulting in OFL projections for 2021 and 2022 that are slightly higher than the projections in the previous assessment. In addition to the catch data update, the SSC applied the newly endorsed σ values to each year in the forecast (as discussed above in B. Proposed ABCs for 2021 and 2022). Because Oregon black rockfish is a category two stock, a base σ value of 1.0 was applied to years 2021-2030 (Table 1-2 in Agenda Item H.5, Attachment 15, September 2019). Black rockfish was last assessed in 2015, so the stock is also subject to further σ value reductions. However, the Council recommended and NMFS is proposing a phased-in approach to incorporating this additional ABC reduction.

Black rockfish is the primary target for the Oregon recreational and commercial nearshore fisheries. In 2017, Oregon recreational fisheries were shut down early because of black rockfish concerns, and the Council received public testimony as to the severe negative consequences for charter business operators and tourist-revenue dependent coastal communities resulting from this closure. Due to the constraining nature of black rockfish in Oregon and the biomass level being above the precautionary threshold, the Oregon Department of Fish and Wildlife (ODFW) requested the Council consider an alternative for the 2021-22 biennium where the 2020 ABC (512 mt) is specified for 2021 and 2022, and the ACLs are set equal to ABCs. The Magnuson-Stevens Act and the PCGFMP allow the SSC to recommend an ABC that differs from the ABC control rule on a case by case basis, provided the SSC offers justification for its recommended deviation. In 2023, the current default harvest control rule (ABC = ACL, P* of 0.45) would once again apply to Oregon black rockfish. In this case, long-term projections under the Council's default harvest control rule and the alternative 2021 and 2022 ABC both result in a projected stock biomass at 54 percent of its unfished spawning output in 2030. Stocks with biomass estimates greater than 40 percent depletion are above the precautionary thresholds in the PCGFMP. Because the biomass is the same under either option, the SSC recommended the alternative 2021 and 2022 ABC.

Therefore based on the Analysis, the Council has recommended and NMFS is proposing alternative harvest specifications for Oregon black rockfish as part of the Oregon blue/deacon/black rockfish complex. The alternative harvest control rule would implement an ACL for the 2021 and 2022 biennium of 512 mt in each year. This ACL contributes to the overall stock complex ACL.

Sablefish

The NWFSC completed a full stock assessment for sablefish in 2019 (Agenda Item H.5. Attachment 7, September 2019). In 2019, the sablefish stock is estimated to be at 39 percent of unfished spawning output. However, biomass is projected to increase, and the spawning output is projected to be above the precautionary threshold (B40) in 2021. The expected increase in biomass is driven in part by the estimated, but highly uncertain, size of the 2016 year class. Now that sablefish biomass is projected to be above BMSY, the Council considered alternative harvest specifications for the 2021-22 biennium.

Additionally, the Council recommended revising the apportionment of the ACL north and south 36° N Lat. Each biennium, the coastwide sablefish ABC is apportioned to ACLs for the areas north and south of 36° N Lat. based on a percentage. In 2019-20, the Council used the average swept area biomass from the trawl survey to determine this percentage. However, for the 2021-22 biennium, the Council recommended updating its methods for determining this percentage and will now be using a rolling 5-year average of the swept area biomass instead of the long-term average. This results in an increase in the percentage of the sablefish apportioned north of 36° N Lat. ACL from 73.7 percent to 78.4 percent and a decrease in the percentage of the sablefish apportioned south of 36° N Lat. ACL from 26.3 percent to 21.5 percent. The change in apportionment of the north and south sablefish ACLs is expected to result in higher attainment of both of the ACLs and should better align with recent catches by area.

Under the default harvest control rule, the ABC would be set equal to the ACL with a P* value of 0.4. The P* value of 0.4 was set when the unfished spawning output was below 40 percent. Under a P* value of 0.4, the unfished spawning output is estimated to be at 46 percent in 2021 and 47 percent by 2030 assuming full ACL removals each year. The ACLs would no longer be subject to the 40-10 rule reduction because the stock would be above the BMSY proxy in 2021 and would therefore be set equal to the ABC. The ACLs under the default harvest control rule and the revised apportionment percentages would be 6,435 mt for north of 36° N Lat. and 1,773 mt for south of 36° N Lat. in 2021. In 2022, the ACL would be 6,124 mt for north of 36° N Lat. and 1,687 mt for south of 36° N Lat.

Based on the 2019 sablefish stock assessment, the Council recommended an alternative harvest specifications for sablefish using a P* value of 0.45 for the 2021-22 biennium. Under the increased P* value, the unfished spawning output is estimated to be at 46 percent in 2021 and 44 percent by 2030, assuming full ACL removals each year. No reduction to the ACL would be necessary, similar to the default, because the stock's unfished spawning output is above 40 percent. Therefore, under the P* value of 0.45, the 2021 ACLs for the north and south would be 6,479 mt and 2,312, mt, respectively. The 2022 ACLs for the north and south would be 6,172 mt and 2,203 mt, respectively.

Therefore, the Council recommended, and NMFS is proposing, to implement an alternative harvest control rule for sablefish for the 2021-22 biennium. The alternative harvest control rule would set the ABC equal to the ACL with a P* value of 0.45 resulting in ACLs that are higher than under the Council's No Action default harvest control rule for sablefish.

Shortbelly Rockfish

Shortbelly rockfish has been a topic of discussion on every Council agenda beginning in November 2018 due to higher than anticipated bycatch in recent years. Shortbelly rockfish is currently a species managed within the PCGFMP in section 3.1 of the PCGFMP and directed fishing is allowed even though it is not the target of a directed fishery.

As part of the 2021-22 biennium, the Council recommended and NMFS is proposing to reclassify shortbelly rockfish as an ecosystem component species through Amendment 29 to the PCGFMP. For more information on this reclassification, see the NOA for Amendment 29 (see ADDRESSES).

Stocks in Rebuilding Plans

When a stock has been declared overfished, the Council must develop and manage the stock in accordance with a rebuilding plan. For overfished stocks in the PCGFMP, this means that the harvest control rule for overfished stocks sets the ACL based on the rebuilding plan. The proposed rules for the 2011-12 (75 FR 67810, November 3, 2010) and 2013-14 (77 FR 67974, November 14, 2012) harvest specifications and management measures contain extensive discussions on the management approach used for overfished stocks, which are not repeated here. In addition, the SAFE document posted on the Council's website at http://www.pcouncil.org/groundfish/safe-documents/ contains a detailed description of each overfished stock, its status and management, as well as the SSC's approach for rebuilding analyses. This document provides information on cowcod south of 40°10′ N lat., which has rebuilt since the last biennium, and yelloweye rockfish which is the only remaining rebuilding stock in the PCGFMP. The Council proposed yelloweye rockfish ACLs for 2021 and 2022 based on the current yelloweye rockfish rebuilding plan, so additional details are not repeated here. Appendix F to the PCGFMP contains the most recent rebuilding plan parameters, as well as a history of each overfished stock, and can be found at http://www.pcouncil.org/groundfish/fisherymanagement-plan/.

Yelloweye rockfish was declared overfished in 2002. The Council adopted a rebuilding plan for the stock in 2004, and revised the rebuilding plan in 2011 under Amendment 16-4 to the PCGFMP, and again during the 2019-20 biennium.

Additionally, the Council recommended, and NMFS is proposing, to establish annual catch targets (ACTs) within the nontrawl allocation harvest guideline (HG). The nontrawl sector includes the limited entry fixed gear (LEFG) and open access (OA) fisheries as well as the recreational fisheries for Washington, Oregon, and California. The nearshore fisheries occur off of Oregon and California and are subject to both Federal and state HGs as well as other state-specific management measures. The non-nearshore fisheries include the limited entry and Federal open access fixed gear fleets. Tables 3 and 4 outline the proposed harvest specifications for 2021 and 2022 for yelloweye rockfish.

The Council recommended using ACTs for the nontrawl sector as a precaution. As discussed in the Analysis, because yelloweye rockfish catch has been restricted for many years, it is difficult to project encounter rates. This precautionary approach to higher catch limits would allow more access to target fisheries for the nontrawl sector, while also managing for the uncertainty and volatility in catch of this rebuilding stock by this sector.

D. Summary of ACL Changes From 2019 to 2021-22

Table 5 compares the ACLs for major stocks for 2019, 2020, and 2021-22. Under this proposed rule, nine stocks would have higher ACLs in 2021 and 2022 than in 2019. Of the 43 stocks and stock complexes managed with ACLs in 2020, 21 stocks have ACLs that would decrease in 2021 from 2020 and 12 stocks have ACLs that would be close to the amount in place in 2020 (Table 4.6 of the Analysis). Shortbelly rockfish are proposed to be no longer be managed with an ACL and one stock, Pacific cod, would have the same ACLs in 2020, 2021, and 2022. Two stocks (big skate and cowcod south of 40°10′ N lat.) have ACLs that would increase more than 100 percent, and one stock complex, Washington's cabezon/kelp greenling, has an ACL that would increase by 92.3 percent. These increases are due to new information provided in the 2019 stock assessments for these stocks. The ACL for the shelf rockfish north complex would decrease by 26.5 percent, which is the largest ACL decrease between 2020 and 2021, followed by the ACL for arrowtooth flounder, which would decrease by 22.1 percent. These decreases are due to updated projections based on the new sigma values.

III. Proposed Management Measures

This section describes proposed management measures (i.e., biennial fishery harvest guidelines and set-asides) used to further allocate the ACLs to the various components of the fishery and control fishing. Management measures for the commercial fishery modify fishing behavior during the fishing year to ensure that catch does not exceed the ACL, and include trip and cumulative landing limits, time/area closures, size limits, and gear restrictions. Management measures for the recreational fisheries include bag limits, size limits, gear restrictions, fish dressing requirements, and time/area closures.

A. Deductions From the ACLs

Before making allocations to the primary commercial and recreational components of groundfish fisheries, the Council recommends “off-the-top deductions,” or deductions from the ACLs to account for anticipated mortality for certain types of activities: Harvest in Pacific Coast treaty Indian tribal fisheries; harvest in scientific research activities; harvest in non-groundfish fisheries (incidental catch); and harvest that occurs under EFPs. These off-the-top deductions are proposed for individual stocks or stock complexes and can be found in the footnotes to Tables 1a and 2a to part 660, subpart C. The details of the EFPs are discuss below in Section III., J.

B. Tribal Fisheries

The Quileute Tribe, Quinault Indian Nation, Makah Indian Tribe, and Hoh Indian Tribe (collectively, “the Pacific Coast Tribes”) implement management measures for Tribal fisheries both independently as sovereign governments and cooperatively with the management measures in the Federal regulations. The Pacific Coast Tribes may adjust their Tribal fishery management measures inseason to stay within the Tribal harvest targets and estimated impacts to overfished stocks. Table 6 provides the proposed Tribal harvest targets proposed for the 2021-22 biennium.

The Pacific Coast Tribes proposed trip limit management in Tribal fisheries for 2021-22 for several stocks, including several rockfish stocks and stock complexes. This rule proposes the trip limits for Tribal fisheries as provided to the Council at its April 2020 meeting in Supplemental Tribal Report 1, Agenda Item G.6.a. For rockfish stocks, Tribal regulations will continue to require full retention of all overfished rockfish stocks and marketable non-overfished rockfish stocks. The Pacific Coast Tribes will continue to develop management measures, including depth, area, and time restrictions, in the directed Tribal Pacific halibut fishery in order to minimize incidental catch of yelloweye rockfish.

C. Biennial Fishery Allocations

The Council routinely recommends 2-year trawl and nontrawl allocations during the biennial specifications process for stocks without formal allocations (as defined in Section 6.3.2 of the PCGFMP) or stocks where the long-term allocation is suspended because the stock is declared overfished. As part of the 2021-22 biennium, the Council also decided to revise the 2-year allocations for canary rockfish, as well as Petrale sole, widow rockfish, lingcod south of 40°10′ N lat., and the slope rockfish complex south of 40°10′ N lat., which were established through Amendment 21 to the PCGFMP (75 FR 32993, June 10, 2010), to better align these allocations with current harvest trends. The changes to these allocations are proposed as part of Amendment 29 to the PCGFMP (see I. Background).

The trawl and nontrawl allocations, with the exception of sablefish north of 36° N lat., are based on the fishery harvest guideline. The fishery harvest guideline is the tonnage that remains after subtracting the off-the-top deductions described in Section III., A, entitled “Deductions from the ACLs,” in this preamble. The trawl and nontrawl allocations and recreational harvest guidelines are designed to accommodate anticipated mortality in each sector as well as variability and uncertainty in those mortality estimates. Additional information on the Council's allocation framework and formal allocations can be found in Section 6.3 of the PCGFMP and § 660.55 of the Federal regulations. Allocations described below are detailed in the harvest specification tables appended to 50 CFR part 660, subpart C, in the regulatory text of this proposed rule.

The Council's recommended and NMFS' proposed allocations are shown Tables 1b and 2b in the proposed regulatory text for this proposed rule and summarized below.

Big Skate

The Council recommended and NMFS is proposing the allocations shown in Table 7 for big skate in 2021 and 2022. These allocations are anticipated to accommodate estimates of mortality of big skate, by sector, in 2021-22. Allocations of big skate are determined on a biennial basis. For 2021-22, the Council elected to maintain the current big skate split of 95 percent to the trawl fishery and 5 percent to the non-trawl fishery resulting in a trawl allocation of 1,348.7 mt and a non-trawl allocation of 71 mt in 2021 and 2022. No further allocations or deductions are made.

Bocaccio South of 40°10′ N Lat.

Specifications for bocaccio are determined through the biennial specifications process. For 2021-22, the Council recommended and NMFS is proposing the allocations shown in Table 8 for bocaccio in 2021 and 2022, which maintain the allocation structure from the previous biennium. These allocations are anticipated to accommodate estimates of mortality of bocaccio, by sector, in 2021-22. In each year, the fishery harvest guideline is split with 39 percent going to the trawl sectors and 61 percent to the non-trawl sectors. For the trawl sector this results in an allocation of 663.8 mt in 2021 and 654.4 mt in 2022. The non-trawl sectors would receive 1,036.4 mt in 2021 and 1,021.8 mt in 2022. The non-trawl allocation is then distributed between the commercial (nearshore and non-nearshore fisheries) and California recreational fisheries. In 2021, the commercial sector would receive 30.9 percent of the non-trawl allocation or 320.2 mt, and the California recreational sector would receive 716.2 mt. In 2022, the same percentage would remain in place with the commercial sector receiving 315.7 mt and the California recreational sector receiving 706.1 mt.

Canary Rockfish

The Council recommended and NMFS is proposing the allocations in Table 9 for canary rockfish in 2021 and 2022, which maintain the status quo proportions from the 2017-18 biennium, but also combine the commercial fixed gear harvest guideline for the nearshore and non-nearshore fisheries. These allocations are anticipated to accommodate estimates of mortality of canary rockfish, by sector, in 2021-22. For canary rockfish, the fishery harvest guideline is distributed to the trawl and non-trawl sectors with trawl receiving 72.3 percent and non-trawl sectors receiving 27.7 percent each year. In 2021, the trawl sector would receive 917 mt of canary rockfish, of which 36 mt would be deducted to account for bycatch in the at-sea sectors, and the remaining 881.2 mt would be distributed to the shorebased individual fishing quota (IFQ) sector. The non-trawl sector would receive 351.4 mt which is distributed to the commercial nontrawl (126.5 mt), WA recreational (43.2 mt), OR recreational (65 mt), and CA recreational (116.7 mt) fisheries. In 2022, the trawl sector would receive 894.6 mt of canary rockfish, of which 36 mt would be deducted to account for bycatch in the at-sea sectors, and the remaining 858.6 mt would be distributed to the shorebased IFQ sector. The non-trawl sector would receive 343.1 mt, which is distributed to the commercial nontrawl sector (123.5 mt), WA recreational (42.2 mt), OR recreational (63.5 mt), and CA recreational (113.9 mt) fisheries.

Cowcod

For 2021-22, the Council recommended and NMFS is proposing setting a cowcod ACT below the fishery harvest guideline at 50 mt, and having it function as a fishery harvest guideline similar to the ACT in the 2017-18 and 2019-20 bienniums. The ACT would be allocated across groundfish fisheries. Table 9 shows the trawl/nontrawl allocations for cowcod for 2021 and 2022. NMFS anticipates the proposed allocation structure will keep catch below the 2021-22 cowcod ACT. The ACT is distributed to the trawl and non-trawl sectors, with the trawl sector receiving 36 percent and the non-trawl sector receiving 64 percent each year. In 2021 and 2022, the trawl sector would receive 18 mt of cowcod. The non-trawl sector would receive 32 mt, which is distributed to the commercial and recreational sectors as a 50/50 split.

Lingcod South of 40°10′ N Lat.

The Council recommended and NMFS is proposing the trawl/nontrawl allocations for lingcod south of 40°10′ N lat. in Table 10. These allocations are anticipated to accommodate estimates of mortality of lingcod, by sector, in 2021-22. Specifications of lingcod south of 40°10′ N lat. were established through Amendment 21 with a trawl/non-trawl allocation set at 45 percent to trawl and 55 percent to non-trawl. For the 2021-22 biennium, the Council recommended revising the fixed percentages through Amendment 29 to the PCGFMP to better align with current catch levels and provide some relief to the nontrawl sector which is usually constrained by lingcod south of 40°10′ N lat. Therefore, beginning with the 2021-22 biennium, the Council recommended and NMFS is proposing changing trawl/non-trawl allocations of lingcod south of 40°10′ N lat., so that 40 percent of the harvest guideline for lingcod south of 40°10′ N lat. is allocated to the trawl sector and 60 percent is allocated to the nontrawl sector. In 2021, the distribution results in 435.6 mt to the trawl sector and 653.4 mt to the non-trawl sectors. In 2022, the distribution results in 463.6 mt to the trawl sectors and 695.4 mt to the non-trawl sectors. No further allocations or distributions are made. The NOA for Amendment 29 is available for public comment (see ADDRESSES).

Longnose Skate

The Council recommended and NMFS is proposing the trawl/nontrawl allocations for longnose skate in Table 11. The allocation percentages, 90 percent to trawl and 10 percent to nontrawl, reflect historical catch of longnose skate in the two sectors. These allocations are anticipated to accommodate estimates of mortality of longnose skate rockfish, by sector, in 2021-22. In 2021, the 90/10 distribution results in 1,414.4 mt to the trawl sectors and 157.2 mt to the non-trawl sectors. In 2022, the distribution results in 1,358.6 mt to the trawl sectors and 151 mt to the non-trawl sectors.

Minor Shelf Rockfish

Allocations for Minor Shelf Rockfish are recommended by the Council and proposed by NMFS for each biennial cycle. The proposed allocations for 2021 and 2022 are shown in Table 12. Specifications for the shelf rockfish complex north of 40°10′ N lat. were established through the biennial process with a trawl/non-trawl allocation for the 2021-22 specifications of 60.2 percent to trawl sectors and 39.8 percent to non-trawl sectors. In 2021, the distribution results in 864.2 mt to the trawl sectors and 571.4 mt to the non-trawl sectors. In 2022, the distribution results in 827.5 mt to the trawl sectors and 547.1 mt to the non-trawl sectors. Of the amount going to the trawl sectors, 35 mt is deducted each year from the trawl allocation to account for bycatch in the at-sea whiting sectors, with the remaining 829.2 mt in 2021 and 792.49 mt in 2022 going to the shorebased IFQ fishery. No further allocations or distributions are made.

Specifications for the shelf rockfish complex south of 40°10′ N lat. were established through the biennial process with a trawl/non-trawl allocation for the 2021-22 specifications of 12.2 percent to trawl sectors and 87.8 percent to non-trawl sectors. In 2021, the distribution results in 161.7 mt to the trawl sectors and 1,163.6 mt to the non-trawl sectors. In 2022, the distribution results in 160.5 mt to the trawl sectors and 1,154.8 mt to the non-trawl sectors. No further allocations or distributes are made.

Slope Rockfish Complex

The slope rockfish complex south of 40°10′ N lat. is a fixed allocation with a trawl/non-trawl allocation of 63 percent to trawl and 37 percent to non-trawl. For the 2021-22 biennium, the Council recommended the fixed allocation be revised through Amendment 29 to the PCGFMP and made into a 2-year allocation, with custom shares for blackgill rockfish, to be reviewed each biennium. In 2021, the distribution results in 556.9 mt to the trawl sectors and 152.1 mt to the non-trawl sectors. In 2022, the distribution results in 515.6 mt to the trawl sectors and 142.1 mt to the non-trawl sectors. The NOA for Amendment 29 is open for public comment (see ADDRESSES).

Petrale Sole

The Council recommended and NMFS is proposing the trawl/nontrawl allocations for Petrale sole in Table 14. These allocations are anticipated to accommodate estimates of mortality of Petrale sole, by sector, in 2021-22. Petrale sole has a fixed allocation with a trawl/non-trawl allocation of the fishery harvest guideline of 95 percent to the trawl fishery and 5 percent to the non-trawl fishery. As part of the 2021-22 biennium, the Council recommended changing the fixed allocation to a biennial allocation through Amendment 29 to the PCGFMP and revising the percentages to better align with current catch by sector. Therefore, beginning in 2021, specifications for Petrale sole will be determined as part of the biennial specifications process. For the 2021-22 biennium, 30 mt of Petrale sole will be allocated to the nontrawl sector and the remainder will go to the trawl sector each year. This would shift around 150 and 130 mt to the shorebased IFQ sector in 2021 and 2022, respectively, and would not constrain the nontrawl sector. In 2021, the distribution results in 3,697.9 mt to the trawl sector. In 2022, the trawl sector would receive 3,242.5 mt. The NOA for Amendment 29 is open for public comment (see ADDRESSES).

Widow Rockfish

The Council recommended and NMFS is proposing the trawl/nontrawl allocations for Widow rockfish in Table 15. These allocations are anticipated to accommodate estimates of mortality of widow rockfish, by sector, in 2021-22. Widow rockfish is an Amendment 21 species with a trawl/non-trawl allocation of the fishery harvest guideline of 91 percent to the trawl fishery and 9 percent to the non-trawl fishery. As part of the 2021-22 biennium, and through Amendment 29 to the PCGFMP, the Council recommended making it a biennial allocation and providing a fixed amount to the nontrawl sector to better align with current catch by sector. Therefore, beginning in 2021, specifications for widow rockfish will be determined as part of the biennial specifications process. For the 2021-22 biennium, 400 mt of widow rockfish will be allocated to the nontrawl sector and the remainder will go to the trawl sector each year. This would shift just under 1,000 mt of widow rockfish to the shorebased IFQ sector in 2021 and 2022, and would not constrain the nontrawl sector. In 2021, the distribution results in 14,076.7 mt to the trawl sector. In 2022, the trawl sector would receive 13,139.7 mt. The NOA for Amendment 29 is open for public comment (see ADDRESSES).

D. Corrections to Waypoints for Rockfish Conservation Areas

Rockfish Conservation Areas (RCAs) are large area closures intended to reduce the catch of a stock or stock complex by restricting fishing activity at specific depths. The boundaries for RCAs are defined by straight lines connecting a series of latitude and longitude coordinates that approximate depth contours. These sets of coordinates, or lines, are not gear or fishery specific, but can be used in combination to define an area. NMFS then implements fishing restrictions for a specific gear and/or fishery within each defined area.

For the 2021-22 biennium, the Council recommended and NMFS is proposing minor adjustments to the 40 fathom (fm) depth contour offshore of San Mateo in Central California, and the 100 fm depth contours off of California to more accurately refine the depth contours, as well as the addition of a 100 fm line around the Channel Islands. See Chapter 2 of the Analysis for more details on these changes.

E. Limited Entry Trawl

The limited entry trawl fishery is made up of the shorebased IFQ program, whiting and non-whiting, and the at-sea whiting sectors. For some stocks and stock complexes with a trawl allocation, an amount is first set-aside for the at-sea whiting sector with the remainder of the trawl allocation going to the shorebased IFQ sector. Set-asides are not managed by NMFS or the Council except in the case of a risk to the ACL.

At-Sea Set Asides

For several species, the trawl allocation is reduced by an amount set-aside for the at-sea whiting sector. This amount is designed to accommodate catch by the at-sea whiting sector when they are targeting Pacific whiting. The Council considered several proposals to generate amounts for these set-asides. After much discussion and analysis, the Council is recommending and NMFS is proposing the set-asides in Table 16 for the 2021-22 biennium.

Incidental Trip Limits for IFQ Vessels

For vessels fishing in the Shorebased IFQ Program, with either groundfish trawl gear or nontrawl gears, the following incidentally-caught stocks are managed with trip limits: Minor Nearshore Rockfish north and south, black rockfish, cabezon (46°16′ to 40°10′ N lat. and south of 40°10′ N lat.), spiny dogfish, shortbelly rockfish, big skate, Pacific whiting, and the Other Fish complex. For all these stocks except big skate, this rule proposes maintaining the same IFQ fishery trip limits for these stocks for the start of the 2021-22 biennium as those in place in 2019. For big skate, the Council proposes an unlimited trip limit to start the 2021 fishing year. Additionally, the Council is recommending and NMFS is proposing a trip limit for blackgill rockfish within the southern slope rockfish complex. The trip limit would be unlimited to start the 2021 fishing year. The purpose of the blackgill trip limit would be to allow the Council to reduce targeting of blackgill rockfish inseason, if needed. Trip limits for the IFQ fishery can be found in Table 1 North and Table 1 South to part 660, subpart D, in the regulatory text of this proposed rule. Changes to trip limits would be considered a routine measure under § 660.60(c), and may be implemented or adjusted, if determined necessary, through inseason action.

F. LEFG and OA Nontrawl Fishery

Management measures for the LEFG and OA nontrawl fisheries tend to be similar because the majority of participants in both fisheries use hook-and-line gear. Management measures, including area restrictions (e.g., nontrawl RCA) and trip limits in these nontrawl fisheries, are generally designed to allow harvest of target stocks while keeping catch of overfished stocks low. For the 2021-22 biennium, the Council considered increasing trip limits for almost all LEFG and OA fisheries, many of which are decades old and do not reflect stocks rebuilding in previous biennium and management changes (e.g., stock complex reorganizations). LEFG and OA trip limits are specified in Table 2 (North), Table 2 (South) to subpart E for LEFG and in Table 3 (North) and Table 3 (South) to subpart F for OA in the regulatory text of this proposed rule.

Sablefish Trip Limits

Sablefish are managed separately north and south of 36° N lat. For the portion of the stock north of 36° N lat., the Council recommended and NMFS is proposing higher trip limits for the LEFG and OA fisheries in 2021. For the portion south of 36° N lat., the Council recommended removing the daily trip limit for the OA fishery but maintaining the same weekly and bimonthly trip limits as were in place in the start of 2019. The proposed sablefish trip limits for 2021-22 are shown in Table 17.

LEFG and OA Trip Limits

The Council recommended, and NMFS is proposing higher trip limits for LEFG and OA fisheries in 2021, including trip limits for shortspine thornyhead, longspine thornyhead, widow rockfish, shelf rockfish, shortbelly rockfish, canary rockfish, Pacific ocean perch, yellowtail rockfish, slope rockfish, darkblotched rockfish, Lingcod, nearshore rockfish, black rockfish, Other Flatfish, bocaccio south of 40°10′ N lat., and chilipepper rockfish (Agenda Item G.6.a., Supplemental GMT Report 2, April 2020). These increases in trip limits are meant to help members of industry harvest more fish while still keeping total mortality within the ACLs for these stocks and stock complexes. Further information on these trip limits can be found in Section 4.3.5.1 of the Analysis.

As part of the Council's recommended trip limits for the LEFG and OA fisheries, the Council established an OA trip limit for shortspine and longspine thornyheads in the area between 40°10′ N lat. and 34°27′ N lat. As part of the Council's action during the 2019-20 biennium, the Council recommended and NMFS implemented, trip limits for OA fisheries for shortspine and longspine thornyheads north of 40°10′ N. lat. and south of 34°27′ N lat., but inadvertently omitted the trip limit for the area between 40°10′ N lat. and 34°27′ N lat., leaving this area closed. The Council is recommending, and NMFS is proposing, implementing a 50 lb (22.7 kg) per month limit for OA fisheries targeting shortspine and longspine thornyheads in the area between 40°10′ N lat. and 34°27′ N lat. This is the same trip limit currently proposed for OA fisheries targeting shortspine and longspine thornyheads north of 40°10′ N lat. See Section 4.5.6.1 of the Analysis for more information on this change.

Primary Sablefish Tier Limits

Some limited entry fixed gear permits are endorsed to receive annual sablefish quota, or tier limits. Vessels registered with one, two, or up to three of these permits may participate in the primary sablefish fishery. The proposed tier limits are as follows: In 2021, Tier 1 at 58,649 lb (26,602 kg), Tier 2 at 26,659 lb (12,092 kg), and Tier 3 at 15,234 lb (6,910 kg). For 2022, Tier 1 at 55,858 lb (25,337 kg), Tier 2 at 25,390 lb (11,517 kg), and Tier 3 at 14,509 lb (6,581 kg).

Yellowtail Trip Limit for the Salmon Troll Fishery North of 40°10′ N lat.

During public comment at the November 2019 Council meeting, there was a request to increase the yellowtail rockfish ratio and monthly limits in the salmon troll fishery north of 40°10′ N lat. The current ratio and limit are 1lb (0.45 kg) of yelloweye rockfish for every 2 lb (0.9 kg) of salmon landed, with a 200 lb (91 kg) monthly limit. As part of the 2017-18 biennial cycle, yellowtail rockfish was removed from the OA multi-stock trip limit, and a new separate trip limit of 500 lb (227 kg) per month was recommended by the Council and implemented by NMFS; however, the salmon troll yellowtail rockfish trip limit did not reflect this change. Agenda Item G.6., Attachment 3 (April 2019) contains a detailed analysis of the salmon troll trip limits considered by the Council. After consideration of the detailed analysis, the Council recommended and NMFS is proposing increasing the yellowtail rockfish limit in the salmon troll fishery north of 40°10′ N lat. from 200 lbs (91 kg) to 500 lbs (227 kg) and removing the ratio for yellowtail to salmon.

Removal of Other Flatfish Gear Restriction Off California

Currently, Federal regulations in Table 2 (South) to Part 660, Subpart E and Table 3 (South) to Part 660, Subpart F include a gear restriction for vessels targeting stocks in the Other Flatfish complex south of 42° N lat. while inside the boundaries of the nontrawl RCA. The gear restriction limits the number of hooks per line, size of the hooks, and the number and size of the weights. Other flatfish include butter sole, curlfin sole, Pacific sanddab, rex sole, rock sole, and sand sole, as defined in 50 CFR 660.11. This management measure was originally implemented in 2003 to protect bocaccio, which was overfished at that time and was thought to provide protections to other overfished groundfish stocks in following years (e.g., Petrale sole) while still allowing an artisanal sanddab fishery off California. However, it was determined in subsequent cycles that it was not effective at preventing bycatch of overfished species. During the 2009-10 harvest specifications cycle, this restriction was removed from regulations for the recreational fishery but was kept for the commercial fishery.

Since this measure was first implemented the stocks it was intended to protect have all been rebuilt while the Other Flatfish complex continues to be under-attained. Therefore, to provide more opportunity to target stocks in the Other Flatfish complex, the Council recommended and NMFS is proposing removing the gear restrictions for the LEFG and OA fisheries targeting stocks in the Other Flatfish complex inside the RCA south of 42° N lat.

Nontrawl RCA Adjustments

Increasing the LEFG and OA trip limits, as proposed in Section III, F., LEFG and OA Fishery, of this proposed rule is one way to help increase attainment of many currently under-attained species. However, as has been discussed under public comment at Council meetings during development of this action, increasing trip limits without providing access to the areas where those fish can be found does little to help with attainments. Therefore, as part of the 2021-22 biennium, the Council recommended and NMFS is proposing the following changes to the Nontrawl RCA off Oregon and Washington:

• Between 40°10′ N lat. and 46°16′ N lat. (the Oregon-Washington border): Open the area between the 30- and 40-fm management lines to hook-and-line gear except bottom longline and dinglebar, as defined in the “general definitions” section of the Federal regulations at 50 CFR 660.11;

• Between 38°57.5′ N lat. and 34°27′ N lat., (Point Arena to Point Conception): Open the area between 40 fm and 50 fm; and

• South of 34°27′ N lat.: Open the area between 75 fm and 100 fm.

These proposals, along with the proposed changes to recreational conservation areas (discussed in Section III, H., Recreational Fisheries) will provide much needed access to these areas for the LEFG and OA fisheries to better attain their trip limits. Section 4.7.2 of the Analysis provides a detailed assessment of the impacts of these openings. Nontrawl RCA closures can be found in the LEFG and OA trip limits in Table 2 (North), Table 2 (South) to subpart E for LEFG and in Table 3 (North) and Table 3 (South) to subpart F for OA in the proposed regulatory text of this proposed rule.

As provided in the Analysis, the purpose of opening these areas is to provide LEFG and OA fisheries access to areas where they can catch abundant target stocks, such as bocaccio, canary rockfish, yellowtail rockfish, and widow rockfish. All of these stocks have been underutilized by the LEFG and OA fisheries since they were rebuilt due to limited access to the areas where they can be found. Opening these areas of the nontrawl RCA, many of which are currently already open to other types of fishing (i.e., trawl or recreational fishing with hook and line gear), along with the increased LEFG and OA trip limits for many of these stocks and stock complexes will likely result in greater attainment of the nontrawl allocations and therefore the ACLs without increasing the risks of exceeding these limits.

New Management Line at 38°57.5′ N lat.

In order to make some of the proposed changes to the Nontrawl RCA, the Council also recommended and NMFS is proposing creating a new management line at 38°57.5′ N lat., which is Point Arena, California. Point Arena is already defined in Federal regulations under the definition for North-South Management Areas, as a commonly used geographic coordinate.

H. Recreational Fisheries

This section describes the recreational fisheries management measures proposed for 2021-22. The Council primarily recommends depth restrictions and groundfish conservation areas to constrain catch within the recreational harvest guidelines for each stock. Washington, Oregon, and California each proposed, and the Council recommended, different combinations of seasons, bag limits, area closures, and size limits for stocks targeted in recreational fisheries. These measures are designed to limit catch of overfished stocks found in the waters adjacent to each state while allowing target fishing opportunities in their particular recreational fisheries. The following sections describe the recreational management measures proposed in each state.

Washington

The state of Washington manages its marine fisheries in four areas: Marine Area 1 extends from the Oregon/Washington border to Leadbetter Point; Marine Area 2 extends from Leadbetter Point to the mouth of the Queets Rivers; Marine Area 3 extends from the Queets River to Cape Alava; and Marine Area 4 extends from Cape Alava to the Sekiu River. This proposed rule would adopt the following season structure in Table 18.

The aggregate groundfish bag limits in waters adjacent to Washington would continue to be nine fish in all areas with a sub-bag limit for cabezon (one per day), rockfish (seven per day), and lingcod (two per day). The flatfish limit would increase from three fish to five fish, and is not counted towards the groundfish bag limit of nine but is in addition to it. The Council recommended these season and bag limit changes, which allow more access to target stocks with fewer restrictions.

Consistent with the 2019-20 biennium, the Council recommended and NMFS is proposing to continue to prohibit recreational fishing for groundfish and Pacific halibut inside the North Coast Recreational Yelloweye Rockfish Conservation Area (YRCA), a C-shaped closed area off the northern Washington coast. However, the Council recommended and NMFS is proposing opening the South Coast Recreational YRCA and the Westport Offshore YRCA to recreational fishing for the 2021-22 biennium. Coordinates for YRCAs are defined at § 660.70.

Opening the South Coast Recreational YRCA and the Westport Offshore YRCA would provide additional access to healthy underutilized stocks. Originally closed to recreational fishing in 2007 to protect canary rockfish and yelloweye rockfish, these closures may no longer be needed since canary rockfish has been rebuilt and higher harvest guidelines were implemented for yelloweye rockfish. As stated by the Washington Department of Fish and Wildlife (WDFW) in their analysis for this proposal, the additional impacts to target and non-target species expected from allowing recreational hook-and-line fishing in these areas would be minimal because the areas to be opened are very small, particularly in comparison to the overall area used by Washington recreational fisheries (Agenda Item F.1.a, Supplemental WDFW Report 1, June 2020).

Oregon

The Council proposed that Oregon recreational fisheries in 2021-22 would operate under an all months all depths season structure to start the 2021 fishing year. The Council proposed maintaining the 2019-20 aggregate bag limits and size limits in Oregon recreational fisheries for 2021-22. The proposed limits are: Three lingcod per day, with a minimum size of 22 in (56 cm); 25 flatfish per day, excluding Pacific halibut; and a marine fish aggregate bag limit of 10 fish per day, where cabezon have a minimum size of 16 in (41 cm).

The ODFW also requested that the Council consider allowing longleader gear fishing and “all-depth” Pacific halibut fishing on the same trip, which had been requested by Oregon anglers during discussion of the 2019 Pacific halibut Catch Sharing Plan process. Currently, combining the two trip types is prohibited; this prohibition was meant to limit interactions with yelloweye rockfish.

Impacts to yelloweye rockfish or other species of concern (e.g., Chinook and Coho salmon) are unlikely to increase significantly under this proposed change as effort is not expected to increase by much. Instead, removing the prohibition would allow anglers already participating in one or the other fisheries to have additional opportunity while offshore. As ODFW's analysis to the Council shows (Agenda Item F.1.a, June 2020), over the past 2 years that the longleader gear fishery has been allowed to operate, the average encounter rates of yelloweye rockfish, Chinook salmon, and Coho salmon has been extremely low at around 0.02, 0.6, and 6 fish per angler, respectively. When added to the encounters from the traditional bottomfish fishery, the total annual encounters would not be much different than the recent years' total estimates, and should not increase the potential for the total groundfish salmon thresholds to be reached or exceeded. Therefore the Council recommended and NMFS is proposing removing the prohibition on combining Oregon longleader trips with all depths halibut trips.

California

The Council manages recreational fisheries in waters adjacent to California in five separate management areas. Season and area closures differ between California management areas to limit incidental catch of overfished stocks while providing as much recreational fishing opportunity as possible. The Council's proposed California season structure includes additional time and depth opportunities, which are supported by the proposed increase to the yelloweye rockfish ACL described in Section C. Table 19 shows the proposed season structure and depth limits by management area for 2021 and 2022.

The Council recommended that size limits would remain the same as for 2020 for all stocks. However, the Council recommended and NMFS is proposing to eliminate the sub-bag limits for black rockfish, canary rockfish, and cabezon, and establish a sub-bag limit for vermillion rockfish of five fish.

J. Exempted Fishing Permits

This action is authorized by the PCGFMP and the regulations implementing the Magnuson-Stevens Act at 50 CFR 600.745, which state that EFPs may be used to authorize fishing activities that would otherwise be prohibited.

At its June 2020 meeting, the Council recommended that NMFS approve five EFP applications for the 2021 fishing year and preliminarily approve the EFP applications for the 2022 fishing year. The Council considered these EFP applications concurrently with the 2021-2022 biennial harvest specifications and management process because expected catch under most EFP projects is included in the catch limits for groundfish stocks. Three of the EFP applications are renewals, and request to test hook-and-line gear that selectively targets underutilized, midwater rockfish species (e.g., yellowtail rockfish) while avoiding overfished, bottom-dwelling rockfish species (e.g., yelloweye rockfish). An EFP is necessary for these activities because they will all occur in the non-trawl RCA, which is closed to fishing with non-trawl fixed gear to protect overfished groundfish stocks. The other two EFP applications are new, and request to retain certain prohibited species in order to collect fishery-dependent data for potential use in upcoming stock assessments. A summary of each EFP application is provided below:

• Groundfish EFP Proposal—Yellowtail Rockfish Jig Fishing off California: The San Francisco Community Fishing Association (SFCFA) and private open access fisherman Daniel Platt submitted a renewal application for research that has been conducted since 2013. The purpose of the EFP project is to continue testing the potential for a commercial jig gear configured to target underutilized, midwater yellowtail and shelf rockfish species while avoiding the rebuilding, bottom-dwelling yelloweye rockfish. The EFP project would require exemptions from: (1) The prohibition to fish inside the non-trawl RCA with non-trawl gear (see § 660.330(d)(12)(i)); (2) the prohibition on transiting through the non-trawl RCA without non-trawl gear stowed (see § 660.330(d)(12)(ii)); and (3) the prohibition on retaining and landing groundfish harvested from inside the non-trawl RCA with non-trawl gear (see § 660.330(d)(12)(iii)). If approved, NMFS would authorize up to seven vessels to target midwater rockfish inside the non-trawl RCA off the California coast—specifically between 40° 10′ north latitude (N lat.) and Point Conception, California, at depths ranging from 35 to 150 fathoms (64 to 274 meters (m)).

• Groundfish EFP Proposal—Commercial Midwater Hook-and-Line Rockfish Fishing in the RCA off the Oregon Coast: Scott Cook, a private fisherman of Coos Bay, Oregon submitted a renewal application to continue research that has been conducted since 2019. The purpose of the EFP project is to test a modified, midwater trolled longline gear configured to target underutilized, midwater yellowtail, widow, and canary rockfish, while avoiding the rebuilding, bottom-dwelling yelloweye rockfish. The EFP project would require exemptions from: (1) The prohibition to fish inside the non-trawl RCA with non-trawl gear (see § 660.330(d)(12)(i)); (2) the prohibition on transiting through the non-trawl RCA without non-trawl gear stowed (see § 660.330(d)(12)(ii)); and (3) the prohibition on retaining and landing groundfish harvested from inside the non-trawl RCA with non-trawl gear (see § 660.330(d)(12)(iii)). If approved, NMFS would authorize up to five vessels to target midwater rockfish inside the non-trawl RCA off the Oregon Coast—specifically in the rocky reef habitat at depths ranging from 30 to 100 fathoms (55 to 183 m).

• Groundfish EFP Proposal—Monterey Bay Regional EFP Chilipepper Rockfish: Real Good Fish of Moss Landing, California submitted a renewal application to continue research that has been conducted since 2019. The purpose of the EFP project is to test a trolled hook-and-line gear configured to target underutilized, midwater chilipepper rockfish and avoid the rebuilding, bottom-dwelling yelloweye rockfish. The EFP project would require exemptions from: (1) The prohibition to fish inside the non-trawl RCA with non-trawl gear (see § 660.330(d)(12)(i)); (2) the prohibition on transiting through the non-trawl RCA without non-trawl gear stowed (see § 660.330(d)(12)(ii)); and (3) the prohibition on retaining and landing groundfish harvested from inside the non-trawl RCA with non-trawl gear (see § 660.330(d)(12)(iii)). If approved, NMFS would authorize up to 10 vessels to target midwater rockfish inside the non-trawl RCA off the California coast—specifically in areas with canyon edges and walls that have historically produced high volumes of chilipepper rockfish catch and at depths ranging from 40 to 150 fathoms (73 to 274 m).

• Groundfish EFP Proposal—California Department of Fish and Wildlife 2021-2022 EFP: The California Department of Fish and Wildlife (CDFW) submitted a new EFP application to collect fishery-dependent biological data for cowcod for inclusion in future stock assessments. The EFP project would require an exemption from the prohibition to retain cowcod in the California recreational fishery (see § 660.360(c)(3)). The EFP would also provide that any cowcod taken and retained would not count against the recreational bag limit for the aggregate of rockfish, cabezon, and greenlings. If approved, NMFS would authorize up to 20 vessels that participate in the California recreational fishery to retain cowcod and transfer the cowcod to CDFW groundfish staff upon landing.

• Groundfish EFP Proposal—Washington Department of Fish Wildlife Enhanced Yelloweye Recreational Fishery Biological Sampling EFP: The Washington Department of Fish and Wildlife (WDFW) submitted a new EFP application to collect fishery-dependent biological data for yelloweye rockfish for inclusion in future stock assessments. The EFP project would require an exemption from the prohibition to retain yelloweye rockfish in the Washington recreational fishery (see § 660.360(c)(1)(ii)). The EFP would also provide that any yelloweye rockfish taken and retained would not count against the recreational bag limit for rockfish. If approved, NMFS would authorize up to 10 vessels that participate in the Washington recreational fishery to retain yelloweye rockfish and transfer the yelloweye rockfish to WDFW staff upon landing.

During the 2-year period of EFP activities from 2021 to 2022, all vessels participating in the non-trawl RCA EFP projects (i.e., the renewal applications submitted by the SFCFA, Scott Cook, and Real Good Fish) would adhere to EFP set-asides for targeted and incidental groundfish and other species, which were considered and approved by the Council at their June 2020 meeting. These EFP set-asides are off-the-top deductions from the 2021-2022 applicable ACLs, meaning any landings and discards that occur under these EFPs would be accounted for within the applicable ACLs. These vessels are also required to have 100 percent observer coverage. All cowcod mortality under the CDFW EFP project is expected to occur in conjunction with routine recreational fishing activities and will be calculated as part of the normal recreational catch estimation process. All yelloweye rockfish taken under the WDFW EFP project would be counted against the Washington recreational harvest guideline for yelloweye rockfish. NMFS would not require 100 percent observer coverage for vessels participating in the CDFW and WDFW EFP projects because recreational vessels do not meet the minimum size requirements under Federal regulations to carry an observer.

NMFS does not expect any impacts to the environment, essential fish habitat, or protected or prohibited species from these EFPs beyond those analyzed for the groundfish fishery as a whole in applicable biological opinions 3 4 or the draft Environmental Assessment (EA) for the Pacific Coast Groundfish Fishery 2021-2022 Harvest Specifications and Management Measures.⁵

³ Available at: http://www.westcoast.fisheries.noaa.gov/publications/fishery_management/groundfish/s7-groundfish-biop-121117.pdf.

⁴ Available at: http://www.pcouncil.org/wp-content/uploads/2017/10/F7_Att1_USFWS_2017_STALBiOp_NOV2017BB.pdf.

⁵ Draft available at: https://www.pcouncil.org/documents/2020/05/f-1-attachment-8-pacific-coast-groundfish-fishery-2021-2022-harvest-specifications-and-management-measures-analytical-document-organized-as-a-draft-environmental-assessment-chapters-1-5-electroni.pdf/.

After publication of this document in the Federal Register, NMFS may approve and issue permits for the proposed EFP projects for the 2021 fishing year after the close of the public comment period. All five EFP applications are available under “Supporting and Related Materials” (see ADDRESSES). NMFS will consider comments submitted in deciding whether to approve the applications as requested. NMFS may approve the applications in their entirety or may make any alterations needed to achieve the goals of the EFP projects. NMFS would not issue another Federal Register notice soliciting public comment on renewing these EFP projects for 2022 unless: (1) The applicants modify and resubmit their applications to NMFS; (2) changes to relevant fisheries regulations warrant a revised set of exemptions authorized under the EFP projects; or (3) NMFS' understanding of the current biological and economic impacts from EFP fishing activities substantially changes.

IV. Classification

Pursuant to section 304(b)(1)(A) of the Magnuson-Stevens Act, the NMFS Assistant Administrator has determined that this proposed rule is consistent with the PCGFMP, other provisions of the Magnuson-Stevens Act, and other applicable law, subject to further consideration after public comment. In making its final determination, NMFS will take into account the complete record, including the data, views, and comments received during the comment period.

Pursuant to Executive Order 13175, this proposed rule was developed after meaningful consultation and collaboration with tribal officials from the area covered by the PCGFMP. Under the Magnuson-Stevens Act at 16 U.S.C. 1852(b)(5), one of the voting members of the Pacific Council must be a representative of an Indian tribe with federally recognized fishing rights from the area of the Council's jurisdiction. In addition, regulations implementing the PCGFMP establish a procedure by which the tribes with treaty fishing rights in the area covered by the PCGFMP request new allocations or regulations specific to the tribes, in writing, before the first of the two meetings at which the Council considers groundfish management measures. The regulations at 50 CFR 660.324(d) further direct NMFS to develop tribal allocations and regulations in consultation with the affected tribes. The tribal management measures in this proposed rule have been developed following these procedures. The tribal representative on the Council made a motion to adopt the non-whiting tribal management measures, which was passed by the Council. Those management measures, which were developed and proposed by the tribes, are included in this proposed rule.

This proposed rule has been determined to be not significant for purposes of Executive Order 12866. This proposed rule is not an Executive Order 13771 regulatory action because this rule is not significant under Executive Order 12866.

NMFS prepared an integrated Analysis for this action, which addresses the statutory requirements of the Magnuson-Stevens Act, the National Environmental Policy Act, Presidential Executive Order 12866, and the Regulatory Flexibility Act. The full suite of alternatives analyzed by the Council can be found on the Council's website at www.pcouncil.org. This Analysis does not contain all the alternatives, because an EIS was prepared for the 2015-16 biennial harvest specifications and management measures and is available from NMFS (see ADDRESSES). This EIS examined the harvest specifications and management measures for 2015-16 and 10-year projections for routinely adjusted harvest specifications and management measures. The 10-year projections were produced to evaluate the impacts of the ongoing implementation of harvest specifications and management measures and to evaluate the impacts of the routine adjustments that are the main component of each biennial cycle. Therefore, the EA for the 2021-22 cycle tiers from the 2015-16 EIS and focuses on the harvest specifications and management measures that were not within the scope of the 10-year projections in the 2015-16 EIS. A copy of the EA is available from NMFS (see ADDRESSES). This action also announces a public comment period on the EA.

The Chief Counsel for Regulation of the Department of Commerce certified to the Chief Counsel for Advocacy of the Small Business Administration that this proposed rule, if adopted, would not have a significant economic impact on a substantial number of small entities. The purpose of this proposed rule is to conserve Pacific Coast groundfish stocks by preventing overfishing, while still allowing harvest opportunity among the various fishery sectors. This will be accomplished by implementing the 2021-2022 annual specifications in the U.S. exclusive economic zone off the West Coast. The harvest specifications affect large and small entities similarly, and for this biennium, many of the catch limits are proposed to increase, providing benefit to all participants. Additionally, this proposed rule contains several of new management measures that are likely to benefit vessels, specifically openings of previously closed fishing grounds. As a result, an initial regulatory flexibility analysis is not required and none has been prepared.

List of Subjects in 50 CFR Part 660

Fisheries, Fishing, Reporting and recordkeeping requirements.

Dated: September 28, 2020.
Samuel D. Rauch III,
Deputy Assistant Administrator for Regulatory Programs, National Marine Fisheries Service.

For the reasons set out in the preamble, 50 CFR part 660 is proposed to be amended as follows:

PART 660—FISHERIES OFF WEST COAST STATES

1. The authority citation for part 660 continues to read as follows:

Authority: 16 U.S.C. 1801 et seq., 16 U.S.C. 773 et seq., and 16 U.S.C. 7001 et seq.

2. In § 660.11, amend the definition of “North-South management area” by revising paragraph (2)(xviii) to read as follows:

§ 660.11 General definitions.

* * * * *

North-South management area * * *

(2) * * *

(xviii) Point Arena, CA—management line—38°57.50′ N lat.

* * * * *

3. In § 660.40, revise the section heading, removing paragraph (a), redesignating paragraph (b) as paragraph (a), and add a reserved paragraph (b) to read as follows:

§ 660.40 Rebuilding plans.

* * * * *

4. In § 660.50, revise paragraphs (f)(2)(ii) and (f)(6) to read as follows:

§ 660.50 Pacific Coast treaty Indian fisheries.

* * * * *

(f) * * *

(2) * * *

(ii) The Tribal allocation is 689.2 mt in 2021 and 656.6 mt in 2022 per year. This allocation is, for each year, 10 percent of the Monterey through Vancouver area (North of 36° N lat.) ACL. The Tribal allocation is reduced by 1.7 percent for estimated discard mortality.

* * * * *

(6) Petrale sole. For petrale sole, treaty fishing vessels are restricted to a fleetwide harvest target of 350 mt each year.

* * * * *

5. Amend § 660.71 as follows:

a. Redesignate paragraphs (o)(133) through (216) as paragraphs (o)(135) through (218); and

b. Add new paragraphs (o)(133) and (134).

The additions read as follows:

§ 660.71 Latitude/longitude coordinates defining the 10-fm (18-m) through 40-fm (73-m) depth contours.

* * * * *

(o) * * *

(133) 37°25.00′ N lat., 122°38.66′ W long.;

(134) 37°20.68′ N lat., 122°36.79′ W long.;

* * * * *

6. Amend § 660.73 as follows:

a. Revise paragraphs (a)(309) through (315);

b. Add paragraphs (a)(316) through (321);

c. Revise paragraphs (b)(1) through (14);

d. Add paragraph (b)(15);

e. Revise paragraphs (c)(10) through (14);

f. Redesignate paragraphs (d) through (l) as paragraphs (e) through (m); and

g. Add new paragraph (d).

The revisions and additions read as follows:

§ 660.73 Latitude/longitude coordinates defining the 100 fm (183 m) through 150 fm (274 m) depth contours.

* * * * *

(a) * * *

(309) 33°2.81′ N lat., 117°21.17′ W long.;

(310) 33°1.76′ N lat., 117°20.51′ W long.;

(311) 32°59.90′ N lat., 117°19.38′ W long.;

(312) 32°57.29′ N lat., 117°18.94′ W long.;

(313) 32°56.15′ N lat., 117°19.54′ W long.;

(314) 32°55.30′ N lat., 117°19.38′ W long.;

(315) 32°54.27′ N lat., 117°17.17′ W long.;

(316) 32°52.94′ N lat., 117°17.11′ W long.;

(317) 32°52.66′ N lat., 117°19.67′ W long.;

(318) 32°50.95′ N lat., 117°21.17′ W long.;

(319) 32°47.11′ N lat., 117°22.98′ W long.;

(320) 32°45.60′ N lat., 117°22.64′ W long.; and

(321) 32°42.79′ N lat., 117°21.16′ W long.

(b) * * *

(1) 33°04.80′ N lat., 118°37.90′ W long.;

(2) 33°02.65′ N lat., 118°34.08′ W long.;

(3) 32°55.80′ N lat., 118°28.92′ W long.;

(4) 32°55.04′ N lat., 118°27.68′ W long.;

(5) 32°49.79′ N lat., 118°20.87′ W long.;

(6) 32°48.05′ N lat., 118°19.62′ W long.;

(7) 32°47.41′ N lat., 118°21.86′ W long.;

(8) 32°44.03′ N lat., 118°24.70′ W long.;

(9) 32°47.81′ N lat., 118°30.20′ W long.;

(10) 32°49.79′ N lat., 118°32.00′ W long.;

(11) 32°53.36′ N lat., 118°33.23′ W long.;

(12) 32°55.13′ N lat., 118°35.31′ W long.;

(13) 33°00.22′ N lat., 118°38.68′ W long.;

(14) 33°03.13′ N lat., 118°39.59′ W long.; and

(15) 33°04.80′ N lat., 118°37.90′ W long.

(c) * * *

(10) 33°18.14′ N lat., 118°27.94′ W long.;

(11) 33°19.84′ N lat., 118°32.22′ W long.;

(12) 33°20.81′ N lat., 118°32.91′ W long.;

(13) 33°21.94′ N lat., 118°32.03′ W long.;

(14) 33°23.14′ N lat., 118°30.12′ W long.;

* * * * *

(d) The 100 fm (183 m) depth contour around the northern Channel Islands off the state of California is defined by straight lines connecting all of the following points in the order stated:

(1) 34°12.89′ N lat., 120°29.31′ W long.;

(2) 34°10.96′ N lat., 120°25.19′ W long.;

(3) 34°08.74′ N lat., 120°18.00′ W long.;

(4) 34°07.02′ N lat., 120°10.45′ W long.;

(5) 34°06.75′ N lat., 120°05.09′ W long.;

(6) 34°08.15′ N lat., 119°54.96′ W long.;

(7) 34°′07.17 N lat., 119°48.54′ W long.;

(8) 34°05.66′ N lat., 119°37.58′ W long.;

(9) 34°04.76′ N lat., 119°26.28′ W long.;

(10) 34°02.93′ N lat., 119°18.06′ W long.;

(11) 34°00.97′ N lat., 119°18.78′ W long.;

(12) 33°59.38′ N lat., 119°21.71′ W long.;

(13) 33°58.62′ N lat., 119°32.05′ W long.;

(14) 33°57.69′ N lat., 119°33.38′ W long.;

(15) 33°57.40′ N lat., 119°35.84′ W long.;

(16) 33°56.07′ N lat., 119°41.10′ W long.

(17) 33°55.54′ N lat., 119°47.99′ W long.;

(18) 33°56.60′ N lat., 119°51.40′ W long.;

(19) 33°55.56′ N lat., 119°53.87′ W long.;

(20) 33°54.40′ N lat., 119°53.74′ W long.;

(21) 33°52.72′ N lat., 119°54.62′ W long.;

(22) 33°47.95′ N lat., 119°53.50′ W long.;

(23) 33°45.75′ N lat., 119°51.04′ W long.;

(24) 33°40.18′ N lat., 119°50.36′ W long.;

(25) 33°38.19′ N lat., 119°57.85′ W long.;

(26) 33°44.92′ N lat., 120°02.95′ W long.;

(27) 33°48.90′ N lat., 120°05.34′ W long.;

(28) 33°51.64′ N lat., 120°08.11′ W long.;

(29) 33°58.31′ N lat., 120°27.99′ W long.;

(30) 34°03.23′ N lat., 120°34.34′ W long.;

(31) 34°09.42′ N lat., 120°37.64′ W long.; and

(32) 34°12.89′ N lat., 120°29.31′ W long.

* * * * *

7. Tables 1a through 1c to subpart C are revised to read as follows:

6. Tables 2a through 2c to subpart C are revised to read as follows:

7. In § 660.140, revise paragraphs (d)(1)(ii)(D) to read as follows:

§ 660.140 Shorebased IFQ Program.

* * * * *

(d) * * *

(1) * * *

(ii) * * *

(D) Pacific whiting and non-whiting QP shorebased trawl allocations. For the trawl fishery, NMFS will issue QP based on the following shorebased trawl allocations:

* * * * *

8. Revise Tables 1 (North) and 1 (South) to subpart D to read as follows:

9. In § 660.231, revise paragraph (b)(3)(i) to read as follows:

§ 660.231 Limited entry fixed gear sablefish primary fishery.

* * * * *

(b) * * *

(3) * * *

(i) A vessel participating in the primary season will be constrained by the sablefish cumulative limit associated with each of the permits registered for use with that vessel. During the primary season, each vessel authorized to fish in that season under paragraph (a) of this section may take, retain, possess, and land sablefish, up to the cumulative limits for each of the permits registered for use with that vessel (i.e., stacked permits). If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under § 660.232. In 2021, the following annual limits are in effect: Tier 1 at 58,649 lb (26,602 kg), Tier 2 at 26,659 lb (12,092 kg), and Tier 3 at 15,234 lb (6,910 kg). In 2022 and beyond, the following annual limits are in effect: Tier 1 at 55,858 lb (25,337 kg), Tier 2 at 25,390 lb (11,517 kg), and Tier 3 at 14,509 lb (6,581 kg).

* * * * *

10. Revise Tables 2 (North) and 2 (South) to subpart E to read as follows:

11. Revise Tables 3 (North) and 3 (South) to subpart F to read as follows:

12. Amend § 660.360 by revising paragraphs (c)(1) introductory text, (c)(1)(i)(B), (C), and (D), (c)(2)(i)(B) and (D), (c)(3)(i)(A), and (c)(3)(ii)(B) to read as follows:

§ 660.360 Recreational fishery—management measures.

* * * * *

(c) * * *

(1) Washington. For each person engaged in recreational fishing off the coast of Washington, the groundfish bag limit is 9 groundfish per day, including rockfish, cabezon and lingcod. Within the groundfish bag limit, there are sub-limits for rockfish, lingcod, and cabezon outlined in paragraph (c)(1)(i)(D) of this section. In addition to the groundfish bag limit of 9, there will be a flatfish limit of 5 fish, not to be counted towards the groundfish bag limit but in addition to it. The recreational groundfish fishery will open the second Saturday in March through the third Saturday in October for all species. In the Pacific halibut fisheries, retention of groundfish is governed in part by annual management measures for Pacific halibut fisheries, which are published in the Federal Register. The following seasons, closed areas, sub-limits and size limits apply:

(i) * * *

(B) South coast recreational yelloweye rockfish conservation area. Recreational fishing for groundfish and halibut is allowed within the South Coast Recreational YRCA. The South Coast Recreational YRCA is defined by latitude and longitude coordinates specified at § 660.70.

(C) Westport offshore recreational yelloweye rockfish conservation area. Recreational fishing for groundfish and halibut is allowed within the Westport Offshore Recreational YRCA. The Westport Offshore Recreational YRCA is defined by latitude and longitude coordinates specified at § 660.70.

(D) Recreational rockfish conservation area. Fishing for groundfish with recreational gear is prohibited within the recreational RCA unless otherwise stated. It is unlawful to take and retain, possess, or land groundfish taken with recreational gear within the recreational RCA unless otherwise stated. A vessel fishing in the recreational RCA may not be in possession of any groundfish unless otherwise stated. [For example, if a vessel participates in the recreational salmon fishery within the RCA, the vessel cannot be in possession of groundfish while in the RCA. The vessel may, however, on the same trip fish for and retain groundfish shoreward of the RCA on the return trip to port.] Coordinates approximating boundary lines at the 10- fm (18 m) through 40-fm (73-m) depth contours can be found at § 660.71. The Washington recreational fishing season structure is as follows:

* * * * *

(2) * * *

(i) * * *

(B) Recreational rockfish conservation area (RCA). Fishing for groundfish with recreational gear is prohibited within the recreational RCA, a type of closed area or groundfish conservation area, except with long-leader gear (as defined at § 660.351). It is unlawful to take and retain, possess, or land groundfish taken with recreational gear within the recreational RCA, except with long-leader gear (as defined at § 660.351). A vessel fishing in the recreational RCA may not be in possession of any groundfish. [For example, if a vessel fishes in the recreational salmon fishery within the RCA, the vessel cannot be in possession of groundfish while within the RCA. The vessel may, however, on the same trip fish for and retain groundfish shoreward of the RCA on the return trip to port.] Off Oregon, from January 1 through December 31, recreational fishing for groundfish is allowed in all depths. Coordinates approximating boundary lines at the 10-fm (18 m) through 40-fm (73-m) depth contours can be found at § 660.71.

* * * * *

(D) In the Pacific halibut fisheries. Retention of groundfish is governed in part by annual management measures for Pacific halibut fisheries, which are published in the Federal Register. Between the Columbia River and Humbug Mountain, during days open to the “all-depth” sport halibut fisheries, when Pacific halibut are onboard the vessel, no groundfish, except sablefish, Pacific cod, and other species of flatfish (sole, flounder, sanddab), may be taken and retained, possessed or landed, except with long-leader gear (as defined at § 660.351). “All-depth” season days are established in the annual management measures for Pacific halibut fisheries, which are published in the Federal Register and are announced on the NMFS Pacific halibut hotline, 1-800-662-9825.

* * * * *

(3) * * *

(i) * * *

(A) Recreational rockfish conservation areas. The recreational RCAs are areas that are closed to recreational fishing for groundfish. Fishing for groundfish with recreational gear is prohibited within the recreational RCA, except that recreational fishing for species in the Other Flatfish complex, petrale sole, and starry flounder is permitted within the recreational RCA as specified in paragraph (c)(3)(iv) of this section. It is unlawful to take and retain, possess, or land groundfish taken with recreational gear within the recreational RCA, unless otherwise authorized in this section. A vessel fishing in the recreational RCA may not be in possession of any species prohibited by the restrictions that apply within the recreational RCA. For example, if a vessel fishes in the recreational salmon fishery within the RCA, the vessel cannot be in possession of rockfish while in the RCA. The vessel may, however, on the same trip fish for and retain rockfish shoreward of the RCA on the return trip to port. If the season is closed for a species or species group, fishing for that species or species group is prohibited both within the recreational RCA and shoreward of the recreational RCA, unless otherwise authorized in this section. Coordinates approximating boundary lines at the 10- fm (18 m) through 40-fm (73-m) depth contours can be found at § 660.71. The California recreational fishing season structure and RCA depth boundaries by management area and month are as follows:

* * * * *

(ii) * * *

(B) Bag limits, hook limits. In times and areas when the recreational season for the RCG Complex is open, there is a limit of 2 hooks and 1 line when fishing for the RCG complex and lingcod. The bag limit is 10 RCG Complex fish per day coastwide, with a sub-bag limit of 5 fish for vermilion rockfish. This sub-bag limit counts towards the bag limit for the RCG Complex and is not in addition to that limit. Retention of yelloweye rockfish, bronzespotted rockfish, and cowcod is prohibited. Multi-day limits are authorized by a valid permit issued by California and must not exceed the daily limit multiplied by the number of days in the fishing trip.

* * * * *

[FR Doc. 2020-21783 Filed 10-1-20; 8:45 am]

BILLING CODE 3510-22-P